Title 3—

The President

Executive Order 13411 of August 29, 2006

Improving Assistance for Disaster Victims

By the authority vested in me as President by the Constitution and the laws of the United States of America, including the Robert T. Stafford Disaster Relief and Emergency Assistance Act, as amended (42 U.S.C. 5121 et seq.) (the “Stafford Act”), and to take further actions to improve the delivery of Federal disaster assistance, it is hereby ordered as follows:

Section 1. Policy. It is the policy of the Federal Government to ensure that individuals who are victims of a terrorist attack, natural disaster, or other incident that is the subject of an emergency or major disaster declaration under the Stafford Act, and who are thereby eligible for financial or other assistance delivered by any department or agency of the executive branch (Federal disaster assistance), have prompt and efficient access to Federal disaster assistance, as well as information regarding assistance available from State and local government and private sector sources.

Sec. 2. Task Force on Disaster Assistance Coordination. (a) Plan to Improve Delivery of Federal Disaster Assistance. To further the policy in section 1 of this order, there is established the interagency “Task Force on Disaster Assistance Coordination” (Task Force). The Task Force shall develop a plan to streamline and otherwise improve the delivery of Federal disaster assistance (Plan). The Plan shall:

(i) include an inventory of Federal disaster assistance programs and assess the effectiveness of their respective delivery mechanisms;

(ii) recommend specific actions to improve the delivery of Federal disaster assistance, which shall include actions to provide a centralized application process for Federal disaster assistance, provide a centralized and continuously updated clearinghouse from which disaster victims may obtain information regarding Federal disaster assistance and State and local government and private sector sources of disaster assistance, reduce unnecessarily duplicative application forms and processes for Federal disaster assistance, and strengthen controls designed to prevent improper payments and other forms of fraud, waste, and abuse; and

(iii) include an implementation schedule for the Plan's recommendations that provides for the phased implementation of the Plan by December 31, 2008, including quarterly milestones and metrics to be used to measure and evaluate implementation.

(b) Membership of the Task Force. (i) The Task Force shall consist exclusively of the following members, or their designees who shall be at the Assistant Secretary level (or its equivalent) or higher:

(A) the Secretary of Homeland Security, who shall serve as Chair;

(B) the Secretary of the Treasury;

(C) the Secretary of Defense;

(D) the Attorney General;

(E) the Secretary of Agriculture;

(F) the Secretary of Commerce;

(G) the Secretary of Labor;

(H) the Secretary of Health and Human Services;

(I) the Secretary of Housing and Urban Development;

(J) the Secretary of Education;

(K) the Secretary of Veterans Affairs;

(L) the Director of the Office of Personnel Management;

(M) the Commissioner of Social Security;

(N) the Administrator of the Small Business Administration;

(O) the Director of the Office of Management and Budget; and

(P) such other officers of the United States as the Secretary of Homeland Security may designate from time to time.

(ii) The Secretary of Homeland Security, or the Secretary's designee, shall convene and preside at meetings of the Task Force, determine its agenda, direct its work, and, as appropriate to address specific subject matters, establish and direct subgroups of the Task Force. A member of the Task Force may designate, to perform Task Force subgroup functions of the member, any person who is part of such member's department or agency and who is either an officer of the United States appointed by the President or a member of the Senior Executive Service.

(c) Plan Approval and Implementation. Not later than March 1, 2007, the Secretary of Homeland Security shall submit the Plan to the President for approval through the Assistant to the President for Homeland Security and Counterterrorism and the Director of the Office of Management and Budget. Upon approval of the Plan by the President, the Secretary of Homeland Security, assisted by the Task Force, shall coordinate the implementation of the Plan. Until the completion of such implementation, the Secretary of Homeland Security shall submit a quarterly progress report to the Assistant to the President for Homeland Security and Counterterrorism and the Director of the Office of Management and Budget.

Sec. 3. Assistance and Support. To the extent permitted by law, the heads of all executive departments and agencies shall provide such assistance and information as the Secretary of Homeland Security may request in carrying out the Secretary's responsibilities under this order. Consistent with applicable law and subject to the availability of appropriations, the Department of Homeland Security shall provide necessary funding and administrative support for the Task Force.

Sec. 4. Administration. This order shall: (a) be implemented in a manner consistent with applicable laws, including Federal laws protecting the information privacy rights and other legal rights of Americans, and subject to the availability of appropriations;

(b) be implemented in a manner consistent with the statutory authority of the principal officers of executive departments and agencies as heads of their respective departments or agencies; and

(c) not be construed to impair or otherwise affect the functions of the Director of the Office of Management and Budget relating to budget, administrative, regulatory, and legislative responsibilities.

Sec. 5. Judicial Review. This order is intended only to improve the internal management of the Federal Government and is not intended to, and does not, create any rights or benefits, substantive or procedural, enforceable at law or in equity by a party against the United States, its departments, agencies, or entities, its officers, employees, or agents, or any other person.

B

THE WHITE HOUSE,

August 29, 2006.

[FR Doc. 06-7492

Filed 9-5-06; 8:45 am]

Billing code 3195-01-P